DEPARTMENT OF THE INTERIOR

National Park Service

National Register of Historic Places; Notification of Pending Nominations

Nominations for the following properties being considered for listing in the National Register were received by the National Park Service before July 19, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by August 28, 2003.

Carol D. Shull,
Keeper of the National Register of Historic Places.

FLORIDA

Alachua County

Liberty Hill Schoolhouse, (Florida's Historic Black Public Schools MPS) 7600 NW 23rd Ave., Gainesville, 03000825

Pinellas County

Round Lake Historic District, Roughly 5th Ave. N, 9th St. N, 13th Ave. N, and 4th St. N, St. Petersburg, 03000824

IOWA

Allamakee County

Allamakee County Court House, (PWA-Era County Courthouses of IA MPS) 110 Allamakee St., Waukon, 03000827

Appanoose County

C B & Q Passenger Depot, (Central City, Iowa MPS) 1124 S. Eighteenth St., Centerville, 03000833

Audubon County

Audobon County Court House, (PWA-Era County Courthouses of IA MPS) 318 Leroy St., Audubon, 03000826

Bremer County

Bremer County Court House, (PWA-Era County Courthouses of IA MPS) 415 E. Bremer Ave., Waverly, 03000821

Chicago, Burlington, and Quincy Freight House—Chariton, Jct. of Auburn and Brookdale, Chariton, 03000836

Buchanan County

Buchanan County Court House, (PWA-Era County Courthouses of IA MPS) 216 5th Ave., 216 5th Ave., 03000820

Cass County

Cass County Court House, (PWA-Era County Courthouses of IA MPS) 5 W. 7th St., Atlantic, 03000819

Des Moines County

Des Moines County Court House, (PWA-Era County Courthouses of IA MPS) 513 N. Main St., Burlington, 03000817

Melcher, Dennis, Pottery and House, 22981 and 22982 Agency Rd., Danville, 03000832

Floyd County

Floyd County Court House, (PWA-Era County Courthouses of IA MPS) 101 S. Main St., Charles City, 03000816

Franklin County

Hampton Double Square Historic District, Roughly bounded by 2nd Ave., 1st Ave., the alley W of 1st St. and alley E of Federal, Hampton, 03000834

Henry County

Bangs, John and Lavina, House, 2759 Old Highway 24, New London, 03000831

McClellan's General Store, 107 E. Main, New London, 03000828

Smith and Weller Building, 100 E. Main, New London, 03000830

Humboldt County

Humboldt County Court House, (PWA-Era County Courthouses of IA MPS) 203 Main St., Dakota City, 03000823

Jones County

Jones County Court House, (PWA-Era County Courthouses of IA MPS) 500 W. Main St., Anamosa, 03000822

Marion County

Porter-Rhynsburger House, 514 Broadway St., Pella, 03000837

Van Den Berg, Hendrik J. and Wilhelmina H., Cottage, 1305 W. Washington St., Pella, 03000835

Warren County

Warren County Court House, (PWA-Era County Courthouses of IA MPS) 115 N. Howard Ave., Indianola, 03000818

KANSAS

Atchison County

Baker, Francis and Harriet, House, 823 N. 5th St., Atchison, 03000838

Cherokee County

Baxter Springs Independent Oil and Gas Service Station, (Route 66 in Kansas MPS) 940 Military Ave., Baxter Springs, 03000841

Kansas Route 66 Historic District—East Galena, (Route 66 in Kansas MPS) US 66, Galena, 03000842

Williams' Store, (Route 66 in Kansas MPS) 7109 SE Highway 66, Riverton, 03000843

Cowley County

Coffin, W.H., House, 421 E. 11th Ave, Winfield, 03000839

Sherman County

Ruleton School, 6450 Ruleton Ave., Goodland, 03000840

MASSACHUSETTS

Bristol County

Whitman Mills, 1, 90 and E side Riverside Ave., S side, N side and rear 1 Coffin Ave., 10 Manomet St., New Beford, 03000844

NEW YORK

Chenango County

Methodist-Episcopal Church of Norwich, 74 N. Broad St., Norwich, 03000846

Delaware County

Roxbury Historic District, NY 30, Cty Rte. 41, Bridge St., Vega Mt. Rd., Lake St., Shepard Hill Rd., Roxbury, 03000852

New York County

Bank of New York Building, 48 Wall St., New York, 03000847

Harlem Savings Bank, 124 E. 125th St., New York, 03000849

Two Bridges Historic District, Roughly bounded by E. Broadway, Market St., Cherry St., Catherine St., Madison St., and St. James Place, New York, 03000845

Wallace Building,

56-58 Pine St., New York, 03000848

Queens County

Public School 66,

85-11 102nd St., Richmond Hill, 03000850

NORTH CAROLINA

Greene County

Snow Hill Colored High School, 602A W. Harper St., Snow Hill, 03000853

Haywood County

Frog Level Historic District, Roughly bounded by Commerce and Boundary Sts., Water St. and Richland Creek, Depot St., and 80 Commerce St., Waynesville, 03000854

Mitchell County

Downtown Spruce Pine Historic District, Roughly bounded by Oak Ave., Locust St., Topaz St., and NC 226, Spruce Pines, 03000855

New Hanover County

Babies Hospital, 7225 Wrightsville Ave., Wilmington, 03000856

Northampton County

Amis-Bragg House, 203 Thomas Bragg Dr., Jackson, 03000857

Orange County

Bellevue Manufacturing Company, Nash St. and Eno St., Hillsborough, 03000858

OHIO

Cuyahoga County

Henninger, Phillip, House, 5757 Broadview Rd., Parma, 03000859

WASHINGTON

Spokane County

East Downtown Historic District, (Single Room Occupancy Hotels in Central Business District of Spokane MPS) Roughly bounded by Main Ave., Second Ave., Division St., and Post St., Spokane, 03000860

Stevens County

Clayton School, (Rural Public Schools of Washington State MPS) Corner of Parke Ave. and Swenson Rd., Clayton, 03000862

Whatcom County

Hotel Laube, (Commercial Buildings of the Central Business District of Bellingham, Washington MPS) 1226 N. State St., Bellingham, 03000851

Richards, T.G., and Company Store, 1308 E St., Bellingham, 03000861

[FR Doc. 03-20532 Filed 8-12-03; 8:45 am]

BILLING CODE 4212-51-P